FEDERAL COMMUNICATIONS COMMISSION

47 CFR Part 73

[DA 03-3554; MM Docket No. 02-49, RM-10220]

Radio Broadcasting Services; Westborough and Worcester, MA

AGENCY: Federal Communications Commission.

ACTION: Final rule.

SUMMARY: The Commission, at the request of Entercom Boston License, L.L.C., reallots Channel 297B from Worcester to Westborough, Massachusetts, as the community's first local aural transmission service and modifies Station WAAF(FM)'s license accordingly. See 67 FR 14664, March 27, 2002. Although Station WAAF(FM) is a pre-1964 and pre-1989 grandfathered short-spaced station, it may change its community of license at its current license site because no new short-spacings would be created. The coordinates for Channel 297B at Westborough at Station WAAF(FM)'s current license site are 42-18-11 North Latitude and 71-53-52 West Longitude. While Station WAAF(FM) has an outstanding construction permit at Worcester, this change of community proposal must be implemented at its current license site. Although Westborough is located within 320 kilometers of the U.S.-Canadian border, concurrence of the Canadian government is not required because there is no change in class or coordinates.

DATES: Effective January 23, 2004.

ADDRESSES: Federal Communications Commission, Washington, DC 20554.

FOR FURTHER INFORMATION CONTACT: Sharon P. McDonald, Media Bureau, (202) 418-2180.

SUPPLEMENTARY INFORMATION: This is a synopsis of the Commission's Report and Order, MM Docket No. 02-49, adopted November 12, 2003, and released November 14, 2003. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20054.

Provisions of the Regulatory Flexibility Act of 1980 do not apply to this proceeding.

Members of the public should note that from the time a notice of proposed rule making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 54, 303, 334 and 336.

§ 73.202 [Amended]

2. Section 73.202(b), the Table of FM Allotments under Massachusetts, is amended by removing Channel 297B at Worcester and by adding Westborough, Channel 297B.

Federal Communications Commission.
John A. Karousos,
Assistant Chief, Audio Division, Media Bureau.

[FR Doc. 03-31260 Filed 12-18-03; 8:45 am]

BILLING CODE 6712-01-P